NUCLEAR REGULATORY COMMISSION

[NRC-2013-0057]

Agency Information Collection Activities; Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection:

NRC Form 136, “Security Termination Statement.”

NRC Form 237, “Request for Access Authorization.”

NRC Form 277, “Request for Visit or Access Authorization.”

2. Current OMB approval number:

3150-0049, NRC Form 136.

3150-0050, NRC Form 237.

3150-0051, NRC Form 277.

3. How often the collection is required: On occasion.

4. Who is required or asked to report:

NRC Form 136: NRC employees, licensees and contractors.

NRC Form 237: NRC contractors, subcontractors, licensee employees, employees of other government agencies, and other individuals who are not NRC employees.

NRC Form 277: Any employees of approximately 78 licensees and 7 contracts who hold an NRC access authorization and need to make a visit to NRC, other contractor/licensees or government agencies in which access to classified information will be involved or unescorted area access is desired.

5. The number of annual respondents:

NRC Form 136: 300.

NRC Form 237: 420.

NRC Form 277: 60.

6. The number of hours needed annually to complete the requirement or request:

NRC Form 136: 50.

NRC Form 237: 84.

NRC Form 277: 10.

7. Abstract: The NRC Form 136 is completed by licensees and contractors that are leaving the NRC to acknowledge and accept their continuing security responsibilities. The NRC Form 237 is completed by NRC contractors, subcontractors, licensee employees, employees of other government agencies, and other individuals who are not NRC employees who require an NRC access authorization. The NRC Form 277 is completed by NRC contractors and licensees who have been granted an NRC access authorization and require verification of that access authorization and need-to-know due to: (1) A visit to the NRC, (2) a visit to other contractors/licensees or government agencies in which access to classified information will be involved, or (3) unescorted area access is desired.

Submit, by June 17, 2013, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly available documents, including the draft supporting statement, at the NRC's Public Document Room, Room O-1F21, One White Flint North, 11555 Rockville Pike, Rockville, Maryland 20852. OMB clearance requests are available at the NRC's Web site: http://www.nrc.gov/public-involve/doc-comment/omb/.

The document will be available on the NRC's home page site for 60 days after the signature date of this notice. Comments submitted in writing or in electronic form will be made available for public inspection. Because your comments will not be edited to remove any identifying or contact information, the NRC cautions you against including any information in your submission that you do not want to be publicly disclosed. Comments submitted should reference Docket No. NRC-2013-0057.

You may submit your comments by any of the following methods: Electronic comments: Go to http://www.regulations.gov and search for Docket No. NRC-2013-0057. Mail comments to NRC Clearance Officer, Tremaine Donnell (T-5 F53), United States Nuclear Regulatory Commission, Washington, DC 20555-0001. Questions about the information collection requirements may be directed to the NRC Clearance Officer, Tremaine Donnell (T-5 F53), U.S. Nuclear Regulatory Commission, Washington, DC 20555-0001; telephone: 301-415-6258; or by email to INFOCOLLECTS.Resource@NRC.GOV.

Dated at Rockville, Maryland, this 10th day of April 2013.
For the Nuclear Regulatory Commission.
Tremaine Donnell,
NRC Clearance Officer, Office of Information Services.

[FR Doc. 2013-08874 Filed 4-15-13; 8:45 am]

BILLING CODE 7590-01-P